Executive Order 14353 of September 29, 2025

Assuring the Security of the State of Qatar

By the authority vested in me as President by the Constitution and the laws of the United States of America, and in recognition of the enduring alliance between the United States and the State of Qatar, it is hereby ordered:

Section 1. Policy. Over the years, the United States and the State of Qatar have been bound together by close cooperation, shared interests, and the close relationship between our armed forces. The State of Qatar has hosted United States forces, enabled critical security operations, and stood as a steadfast ally in pursuit of peace, stability, and prosperity, both in the Middle East and abroad, including as a mediator that has assisted the United States' attempts to resolve significant regional and global conflicts. In recognition of this history, and in light of the continuing threats to the State of Qatar posed by foreign aggression, it is the policy of the United States to guarantee the security and territorial integrity of the State of Qatar against external attack.

Sec. 2. Commitment. (a) The United States shall regard any armed attack on the territory, sovereignty, or critical infrastructure of the State of Qatar as a threat to the peace and security of the United States.

(b) In the event of such an attack, the United States shall take all lawful and appropriate measures—including diplomatic, economic, and, if necessary, military—to defend the interests of the United States and of the State of Qatar and to restore peace and stability.

(c) The Secretary of War, in coordination with the Secretary of State and the Director of National Intelligence, shall maintain joint contingency planning with the State of Qatar to ensure a rapid and coordinated response to any foreign aggression against the State of Qatar.

(d) The Secretary of State shall reaffirm this assurance to the State of Qatar and coordinate with allies and partners to ensure complementary measures of support.

(e) The Secretary of State shall continue to partner with the State of Qatar as and when appropriate for conflict resolution and mediation in recognition of the State of Qatar's extensive diplomatic and mediation experience.

Sec. 3. Implementation. All executive departments and agencies shall take appropriate steps, consistent with law, to implement this order.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of State.

THE WHITE HOUSE,

September 29, 2025.

[FR Doc. 2025-19483

Filed 10-3-25; 11:15 am]

Billing code 4710-05-P